DEPARTMENT OF ENERGY

Federal Energy Regulatory Commission

Combined Notice of Filings—No. 2

June 2, 2009.

Take notice that the Commission has received the following Natural Gas Pipeline Rate and Refund Report filings:

Docket Numbers: RP96-272-092.

Applicants: Northern Natural Gas Company.

Description: Northern Natural Gas Company submits Eighth Revised Sheet No 66B 01a et al. to its FERC Gas Tariff, Fifth Revised Volume No 1.

Filed Date: 05/29/2009.

Accession Number: 20090601-0153.

Comment Date: 5 p.m. Eastern Time on Wednesday, June 10, 2009.

Docket Numbers: RP96-320-108.

Applicants: Gulf South Pipeline Company, LP.

Description: Gulf South Pipeline Company, LP submits capacity release agreement numbered 34951 containing negotiated rate provisions executed by Gulf South and Texia Energy Management, Inc.

Filed Date: 05/29/2009.

Accession Number: 20090601-0154.

Comment Date: 5 p.m. Eastern Time on Wednesday, June 10, 2009.

Docket Numbers: RP99-106-015.

Applicants: TransColorado Gas Transmission Company LLC.

Description: TransColorado Gas Transmission Company LLC Revenue Sharing Report.

Filed Date: 05/29/2009.

Accession Number: 20090529-5064.

Comment Date: 5 p.m. Eastern Time on Wednesday, June 10, 2009.

Docket Numbers: RP99-176-201.

Applicants: Natural Gas Pipeline Company of America.

Description: Natural Gas Pipeline Company of America LLC submits amendment to existing negotiated rate transaction under Rate Schedule FTS Service Agreement between Natural and Lacede Energy Resources, Inc.

Filed Date: 05/29/2009.

Accession Number: 20090601-0155.

Comment Date: 5 p.m. Eastern Time on Wednesday, June 10, 2009.

Docket Numbers: RP09-423-001.

Applicants: Columbia Gulf Transmission Company.

Description: Columbia Gulf Transmission Company requests to defer the annual Transportation Retainage Adjustment Rates to be effective 8/1/09.

Filed Date: 05/22/2009.

Accession Number: 20090527-0048.

Comment Date: 5 p.m. Eastern Time on Friday, June 5, 2009.

Docket Numbers: RP09-444-002.

Applicants: Wyckoff Gas Storage Company, LLC.

Description: Wyckoff Gas Storage Co, LLC submits Second Sub Original Sheet No. 31 et al. to FERC Gas Tariff, Original Volume No. 1.

Filed Date: 05/22/2009.

Accession Number: 20090522-0104.

Comment Date: 5 p.m. Eastern Time on Friday, June 5, 2009.

Docket Numbers: RP09-466-002.

Applicants: Kern River Gas Transmission Company.

Description: Kern River Gas Transmission Company submits Response Regarding its Collateral Requirements.

Filed Date: 05/29/2009.

Accession Number: 20090529-5114.

Comment Date: 5 p.m. Eastern Time on Wednesday, June 10, 2009.

Docket Numbers: RP09-515-001.

Applicants: Texas Gas Transmission, LLC.

Description: Explanation of Impact on Existing Contracts of Texas Gas Transmission, LLC.

Filed Date: 05/29/2009.

Accession Number: 20090529-5126.

Comment Date: 5 p.m. Eastern Time on Wednesday, June 10, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-13391 Filed 6-8-09; 8:45 am]

BILLING CODE 6717-01-P